DEPARTMENT OF AGRICULTURE

Rural Utilities Service

Information Collection Activity; Comment Request

AGENCY: Rural Utilities Service, USDA.

ACTION: Notice and request for comments.

SUMMARY: In accordance with the Paperwork Reduction Act of 1995, the United States Department of Agriculture (USDA) Rural Utilities Service (RUS) invites comments on the following information collections for which the RUS intends to request approval from the Office of Management and Budget (OMB).

DATES: Comments on this notice must be received by November 5, 2018.

FOR FURTHER INFORMATION CONTACT: Michele Brooks, Team Lead, Rural Development Innovation Center—Regulatory Team, USDA, 1400 Independence Avenue SW, STOP 1522, Room 5162, South Building, Washington, DC 20250-1522. Telephone: (202) 690-1078. Email michele.brooks@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies information collections that USDA Rural Development is submitting to OMB for extension.

Comments are invited on: (a) Whether this collection of information is necessary for the proper performance of the functions of the agency, including whether the information will have practical utility; (b) the accuracy of the agency's estimate of the burden of the collection of information including the validity of the methodology and assumptions used; (c) ways to enhance the quality, utility, and clarity of the information to be collected; and (d) ways to minimize the burden of the collection of information on respondents, including through the use of appropriate automated, electronic, mechanical or other technological collection techniques or other forms of information technology. Comments may be sent to: Michele Brooks, Team Lead, Rural Development Innovation Center—Regulatory Team, USDA, 1400 Independence Avenue SW, STOP 1522, Room 5162, South Building, Washington, DC 20250-1522. Telephone: (202) 690-1078. Email michele.brooks@wdc.usda.gov.

Title: Mergers and Consolidations of Electric Borrowers, 7 CFR 1717,subpart D.

OMB Control Number: 0572-0114.

Type of Request: Extension of a currently approved collection.

Abstract: The Rural Electrification Act of 1936 (7 U.S.C. 901 et seq.), as amended (RE Act) authorizes and empowers the administration of RUS to make and guarantee loans to furnish and improve electric service in rural areas. Due to deregulation and restructuring activities in the electric industry, RUS borrowers may find it advantageous to merge or consolidate to meet the challenges of industry change. This information collection addresses the requirements of RUS policies and procedures for mergers and consolidations of electric program borrowers.

Estimate of Burden: Public reporting burden for this collection of information is estimated to average 1.32 hours per response.

Respondents: Not for profit institutions; business or other for-profit entities.

Estimated Number of Respondents: 10.

Estimated Number of Responses per Respondent: 10.6.

Estimated Total Annual Burden on Respondents: 140 hours.

Copies of this information collection can be obtained from Kimble Brown, Innovation Center, at (202) 692-0043, or email: Kimble.Brown@wdc.usda.gov. All responses to this notice will be summarized and included in the request for OMB approval. All comments will also become a matter of public record.

Dated: August 29, 2018.
Christopher A. McLean,
Acting Administrator, Rural Utilities Service.

[FR Doc. 2018-19344 Filed 9-5-18; 8:45 am]

P